DEPARTMENT OF COMMERCE

National Oceanic and Atmospheric Administration

[I.D. 110300C]

Marine Mammals; File No. 731-1509-01

AGENCY: National Marine Fisheries Service (NMFS), National Oceanic and Atmospheric Administration (NOAA), Commerce.

ACTION: Receipt of application for amendment.

SUMMARY: Notice is hereby given that Robin Baird, Ph.D., 2 Supanee Court, French’s Road, Cambridge CB4 3LB, UNITED KINGDOM, has requested an amendment to Scientific Research Permit No. 731-1509-01.

DATES: Written or telefaxed comments must be received on or before December 20, 2000.

ADDRESSES: The amendment request and related documents are available for review upon written request or by appointment in the following office(s):

Permits and Documentation Division, Office of Protected Resources, NMFS, 1315 East-West Highway, Room 13705, Silver Spring, MD 20910 (301/713-2289);

Regional Administrator, Northwest Region, NMFS, 7600 Sand Point Way, NE, BIN C15700, Bldg. 1, Seattle, WA 98115-0070 (206/526-6426);

Regional Administrator, Southwest Region, 501 West Ocean Boulevard, Suite 4200, Long Beach, California 90802-4213, (562/980-4021); and

Regional Administrator, Alaska Region, Federal Building, Room 461, 709 West 9th Street, Juneau, Alaska 99802, (907/586-7235).

Comments may also be submitted by facsimile at 301/713-0376, provided the facsimile is confirmed by hard copy submitted by mail and postmarked no later than the closing date of the comment period. Please note that comments will not be accepted by e-mail or other electronic media.

FOR FURTHER INFORMATION CONTACT: Jill Lewandowski, (301)713-2289.

SUPPLEMENTARY INFORMATION: The subject amendment to Permit No. 731-1509-01, issued on November 24, 1999 (64 FR 67563-67564) is requested under the authority of the Marine Mammal Protection Act of 1972, as amended (16 U.S.C. 1361 et seq.), the Regulations Governing the Taking and Importing of Marine Mammals (50 CFR part 216), the Endangered Species Act of 1973, as amended (16 U.S.C. 1531 et seq.), the regulations governing the taking, importing, and exporting of endangered and threatened species (50 CFR 222-226), and the Fur Seal Act of 1966, as amended (16 U.S.C. 1151 et seq.).

Permit No.731-1509-01 authorizes the applicant to conduct radio tagging via suction-cup attachment, photo-identification, and behavioral observations of species of cetaceans in the waters of Washington, Southeast Alaska, Oregon, California, Hawaii, and the Mediterranean and Ligurian Seas in order to study diving behavior of the subject cetacean species. The authority of this permit expires on July 31, 2004.

The applicant is now forwarding three requests. (1) Increase suction cup tagging takes of Humpback whales (Megaptera novaeangliae) in Hawaii from 15 to 35 annually. (2) Increase harassment takes incidental to suction cup tagging of Humpback whales (Megaptera novaeangliae) in Hawaii from 25 to 50 annu Globicephala macrorhynchus ally. (3) Allow for biopsy sampling of cetacean species in the following waters:

(a) Mediterranean and Ligurian Seas- 30 takes for each species of Cuvier’s beaked whale (Ziphius cavirostris), Risso’s dolphin (Grampus griseus), Short-finned pilot whale (Globicephala macrorhynchus ),Striped dolphin (Stenella coeruleoalba); 15 takes for Fin whales (Balaenoptera physalus); and 45 takes for Sperm whales (Physeter macrocephalus).

(b) Hawaii- 60 takes for each species of Killer whale (Orcinus orca), Short-finned pilot whale (Globicephala macrorhynchus), Melon-headed whale (Peponocephala electra), False killer whale (Pseudorca crassidens), Pygmy killer whale (Feresa attenuata), Spinner dolphin (Stenella longirostris), Pantropical spotted dolphin (Stenella attenuata), Striped dolphin (Stenella coeruleoalba), Risso’s dolphin (Grampus griseus), Rough-toothed dolphin (Steno bredanensis), Bottlenose dolphin (Tursiops truncatus), Dwarf sperm whale (Kogia simus), Pygmy sperm whale (Kogia breviceps), Bottlenose whale (Hyperoodon sp.), Baird’s beaked whale (Berardius bairdii), Cuvier’s beaked whale (Ziphius cavirostris), Blainville’s beaked whale (Mesoplodon densirostris), Bryde’s whale (Balaenoptera edeni); and 45 takes for each species of Sperm whale (Physeter macrocephalus), Sei whale (Balaenoptera borealis), Humpback whale (Megaptera novaeangliae), Fin whale (Balaenoptera physalus), Blue whale (Balaenoptera musculus), and Northern right whale (Eubalaena glacialis).

(c) California, Oregon, Washington and Alaska- 60 takes for each species of Killer whale (Orcinus orca), Short-finned pilot whale (Globcephala macrorhynchus), Melon-headed whale (Peponocephala electra), False killer whale (Pseudorca crassidens), Pygmy killer whale (Feresa attenuata), Spinner dolphin (Stenella longirostris), Pantropical spotted dolphin (Stenella attenuata), Striped dolphin (Stenella coeruleoalba), Long-beaked common dolphin (Delphinus capensis), Short-beaked common dolphin (Delphinus delphis), Risso’s dolphin (Grampus griseus), Northern right whale dolphin (Lissodelphis borealis), Pacific white-sided dolphin (Lagenorhynchus obliquidens), Rough-toothed dolphin (Steno bredanensis), Bottlenose dolphin (Tursiops truncatus), Dall’s porpoise (Phocoenoides dalli), Harbor porpoise (Phocoena phocoena), Dwarf sperm whale (Kogia simus), Pygmy sperm whale (Kogia breviceps), Bottlenose whale (Hyperoodon sp.), Baird’s beaked whale (Berardius bairdii), Cuvier’s beaked whale (Ziphius cavirostris), Hubbs’ beaked whale (Mesoplodon carlhubbsi), Stejneger’s beaked whale (Mesoplodon stejnegeri), Ginkgo-toothed whale (Mesoplodon ginkgodens), Blainville’s beaked whale (Mesoplodon densirostris), Hector’s beaked whale (Mesoplodon hectori), Gray whale (Eschrichtius robustus); and 45 takes for each species of Sei whale (Balaenoptera borealis), Humpback whale (Megaptera novaeangliae), Fin whale (Balaenoptera physalus), Blue whale (Balaenoptera musculus), and Northern right whale (Eubalaena glacialis).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Dated: November 15, 2000.
Ann D. Terbush,
Chief, Permits and Documentation Division, Office of Protected Resources, National Marine Fisheries Service.

[FR Doc. 00-29639 Filed 11-17-00; 8:45 am]

BILLING CODE 3510-22-S